FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR Part 515).

Persons knowing of any reason why the following applicants should not receive a license are requested to contact the Office of Transportation Intermediaries, Federal Maritime Commission, Washington, DC 20573.

Non-Vessel-Operating Common Carrier Ocean Transportation Intermediary Applicants

Boats International Inc., 771 West Atlantic Blvd., Pompano, FL 33060. Officers: Carolina Lacayo Kramme, Director (Qualifying Individual), Thomas Kramme, Managing Director.

Limco Logistic Inc., 12550 Biscayne Blvd., Suite 406, North Miami, FL 33181. Officer: Michael Lyamport, President (Qualifying Individual).

Non-Vessel-Operating Common Carrier and Ocean Freight Forwarder Transportation Intermediary Applicant

Katt Worldwide Logistics, LLC, 4105 S. Mendenhall Road, Memphis, TN 38115. Officers: Thomas Nettle (Qualifying Individual), Michael Kattawar, President.

Ocean Lines Logistics, Inc., 2801 NW 74th Avenue, Suite 105, Miami, FL 33122. Officers: Paul Jasinksi, President (Qualifying Individual), Najib Nicholas, Secretary.

Karen V. Gregory,
Assistant Secretary.

[FR Doc. 04-21215 Filed 9-20-04; 8:45 am]

BILLING CODE 6730-01-P